DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 92 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director Medical Programs, 202-366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to, or greater than, the level that would be achieved absent such an exemption.” The procedures for requesting an exemption are set out in 49 CFR part 381.

Accordingly, FMCSA evaluated 92 individual exemption requests on their merits and made a determination that these applicants do not satisfy the criteria eligibility or meet the terms and conditions of the Federal exemption program. Each applicant has, prior to this notice, received a letter of final disposition on his/her exemption request. Those decision letters fully outlined the basis for the denial and constitute final Agency action. The list published today summarizes the Agency's recent denials as required under 49 U.S.C. 31315(b)(4) by periodically publishing names and reasons for denials.

The following 15 applicants lacked sufficient driving experience during the 3-year period prior to the date of their application:

Jeffrey L. Allen

Malcom Celestine

Dennis R. Davidson

Michael S. Dawson

Craig D. Delph

William J. Gibson

Dennis H. Heller

Cierra L. Jones

Roberto Lozano

Stephen V. May

Bernard Sippin

Mark L. St. Clair

Vince A. Thompson

Gregory J. Tipton

Floyd L. Williams

The following 10 applicants did not have any experience operating a CMV:

Earl Bellfield, Jr.

Terisa Billings

Jeffrey T. Christman

Diane E. Cuttler

William Goodman, II

Randy Hoffman

Caroline W. Ngere

Jose M. Orosco

Wendell D. Risser

Gerald Simms

The following 21 applicants did not have 3 years of experience driving a CMV on public highways with the vision deficiency:

Don R. Alexander

Kenneth Bilby

Quinton L. Bobo, Sr.

Steven Bruehling

Alberto Cano

Christopher W. Craine

Mark W. Crocker

Tracy Y. Davis

Robin L. Dothager

Carl Fenner

Kent Gilkerson

Shawn M. Gregory

Perry J. Harris

Johnny L. Johnson

Kevin J. Keegan

Ernest K. Kerezi

Edward F. Lindey, Jr.

Shawna M. Morris

Wesley C. Randall

Talmadge O. Rutherford

Gary Zoffada

The following 8 applicants did not have 3 years of recent experience driving a CMV with the vision deficiency:

Barry Barker

Jack Evans

Michael R. Garcia

Ivan M. Hanna

Keith D. Kleen

Tom E. Slavens

Carol P. Terry

Douglas W. Turner

The following 13 applicants did not have sufficient driving experience over the past 3 years under normal highway operating conditions:

Charles L. Alsager, Jr.

Roger J. Boggs

Terry Y. Braxton

Nathan C. Clements

Rogelio Garcia

Brian E. Goodwin

Jimmy L. Herron

Darold D. Johnston

Frederick A. Kolmorgen

David J. Overweg

Rick L. Robins

Robert A. Rose

Jesus R. Torres

One applicant, Thomas L. Matheny, had more than 2 commercial motor vehicle violations during the 3-year review period and/or application process. Each applicant is only allowed 2 moving citations.

One applicant, Michael A. Terry, has other medical conditions making him unqualified under Federal Motor Carrier Safety Regulations. All applicants must meet all other physical qualifications standards in 49 CFR 391.41(b)(1-13).

The following 4 applicants had commercial driver's license suspensions during the 3-year review period in relation to a moving violation. Applicants do not qualify for an exemption with a suspension during the 3-year period:

John P. Crawford

Randy Fielder

Brandon L. McBride, Sr.

Jason L. Meeks

Two applicants, Leland P. Armstrong and Bobbie Evans, did not hold a license which allowed operation of vehicles over 10,000 pounds for all or part of the 3-year period.

One applicant, Jerry W. Thompkins, did not have an Optometrist/Ophthalmologist willing to state that he is able to operate a commercial vehicle from a vision standpoint.

The following 10 applicants were denied for miscellaneous/multiple reasons:

Macario Escarcega

Steven M. Guy

Jim Kaiser

Richard G. Lyon

Teresa L. Miller

Floyd D. Prater

Jaime Roman

Joseph M. Taylor

Michael J. Whitesell

Richard L. Wilson

Two applicants, Roger B. Doolin and Mark P. Huemann, were disqualified because their vision was not stable for the entire three-year review period.

Finally, the following 4 applicants met the current federal vision standards. Exemptions are not required for applicants that meet the current regulations for vision:

Patricia Duncan

Michael A. Sherbourne

Robert J. Snowden, Jr.

Michael T. Thompson

Issued on: December 15, 2009.
Larry W. Minor,
Associate Administrator for Policy and Program Development.

[FR Doc. E9-30343 Filed 12-21-09; 8:45 am]

BILLING CODE 4910-EX-P